DEPARTMENT OF COMMERCE

National Oceanic and Atmospheric Administration

National Integrated Drought Information System (NIDIS) Executive Council Meeting

AGENCY: Office of Oceanic and Atmospheric Research (OAR), Climate Program Office (CPO), National Oceanic and Atmospheric Administration (NOAA), Department of Commerce (DOC).

ACTION: Notice of open meeting.

SUMMARY: The National Integrated Drought Information System (NIDIS) Program Office will hold an organizational meeting of the NIDIS Executive Council on May 3, 2022.

DATES: The meeting will be held Tuesday, May 3, 2022 from 9:00 a.m. EST to 3:00 p.m. EST. These times and the agenda topics are subject to change.

ADDRESSES: The meeting will be held at the Hall of the States, Room 383/385, 444 North Capitol St. NW, Washington, DC 20001.

FOR FURTHER INFORMATION CONTACT: Veva Deheza, NIDIS Executive Director, David Skaggs Research Center, Room GD102, 325 Broadway, Boulder, CO 80305. Phone: 303-487-3431. Email: Veva.Deheza@noaa.gov; or visit the NIDIS website at www.drought.gov.

SUPPLEMENTARY INFORMATION: The National Integrated Drought Information System (NIDIS) was established by Public Law 109-430 on December 20, 2006, and reauthorized by Public Law 113-86 on March 6, 2014 and Public Law 115-423 on January 7, 2019 , with a mandate to provide an effective drought early warning system for the United States; coordinate, and integrate as practicable, Federal research in support of a drought early warning system; and build upon existing forecasting and assessment programs and partnerships. See 15 U.S.C. 313d. The Public Law also calls for consultation with “relevant Federal, regional, State, tribal, and local government agencies, research institutions, and the private sector” in the development of NIDIS. 15 U.S.C. 313d(c). The NIDIS Executive Council provides the NIDIS Program Office with an opportunity to engage in individual consultation with senior resource officials from NIDIS's Federal partners, as well as leaders from state and local government, academia, nongovernmental organizations, and the private sector.

Status: This meeting will be open to public participation. Individuals interested in attending should register at https://cpaess.ucar.edu/meetings/2022/nidis-executive-council-meeting-may-2022. Please refer to this web page for the most up-to-date meeting times and agenda. Seating at the meeting will be available on a first-come, first-served basis.

Special Accommodations: This meeting is physically accessible to people with disabilities. Requests for special accommodations may be directed no later than 12:00 p.m. on April 28, 2022, to Elizabeth Ossowski, Program Coordinator, David Skaggs Research Center, Room GD102, 325 Broadway, Boulder, CO 80305; Email: Elizabeth.Ossowski@noaa.gov.

Matters To Be Considered: The meeting will include the following topics: (1) NIDIS implementation updates and 2022 priorities; (2) Executive Council member updates and 2022 priorities relevant to Drought, Climate Adaptation and Resilience, Water, Fire; (3) Long Term Drought and Aridification: Outcomes from the 2021 Southwest Drought Forum, including Priority Actions where NIDIS and partners have a critical role to play; (4) Climate Engine, OpenET, and Applications for Drought Monitoring and New Opportunities; (5) Fire, Water, and Resilience and the Bipartisan Infrastructure Law.

David Holst,
Chief Financial and Administrative Officer, Office of Oceanic and Atmospheric Research, National Oceanic and Atmospheric Administration.

[FR Doc. 2022-09243 Filed 4-28-22; 8:45 am]

BILLING CODE 3510-KB-P